DEPARTMENT OF THE TREASURY

Bureau of Alcohol, Tobacco and Firearms

27 CFR Parts 40 and 275

[Notice No. 962]

RIN 1512-AC33

Elimination of Statistical Classes for Large Cigars (2000R-410P)

AGENCY: Bureau of Alcohol, Tobacco and Firearms (ATF), Treasury.

ACTION: Notice of proposed rulemaking.

SUMMARY: This proposed rule removes the eight statistical classes for large cigars prescribed in ATF regulations. Since tobacco manufacturers and importers no longer use these statistical classes to report removals of large cigars subject to tax, this proposed rule eliminates obsolete regulations.

DATES: Written comments must be received on or before December 5, 2002.

ADDRESSES: Send written comments to: Chief, Regulations Division, Bureau of Alcohol, Tobacco and Firearms, 650 Massachusetts Avenue NW., Room 5000, Washington, DC 20226; (Attention Notice No. 962). See the “Public Participation” section of this notice for alternative means of commenting.

FOR FURTHER INFORMATION CONTACT: Robert Ruhf, Regulations Division, Bureau of Alcohol, Tobacco and Firearms, 650 Massachusetts Avenue NW., Washington, DC 20226 (telephone 202-927-8210 or e-mail to alctob@atfhq.atf.treas.gov).

SUPPLEMENTARY INFORMATION:

Background

For the reasons discussed below, we are proposing to eliminate the ATF regulations in 27 CFR parts 40 and 275 that prescribe eight ATF statistical classes for large cigars subject to tax. The first seven classes (Classes A through G) cover large cigars selling for $235.294 or less per thousand, while the eighth class (Class H) covers those selling for more than $235.294 per thousand.

Manufacturers in the United States

Manufacturers of tobacco products no longer use the eight ATF statistical classes to report removals of large cigars subject to tax. For periods prior to January 1, 2001, manufacturers used the eight statistical classes to report large cigar removals subject to tax. For periods beginning on or after January 1, 2001, manufacturers report such removals of large cigars in two classes. The two current ATF classes for large cigars are those with a sale price of (1) $235.294 or less per thousand, or (2) more than $235.294 per thousand. The sale price of more than $235.294 per thousand is based on the maximum sale price for calculating the excise tax on large cigars prescribed by 26 U.S.C. 5701(a)(2).

Manufacturers of tobacco products report information about large cigars on ATF Form 5210.5, Monthly Report—Manufacturer of Tobacco Products. We have revised ATF Form 5210.5 to reflect the reduction in the number of classes for large cigars removed subject to tax. This reduction benefits manufacturers of tobacco products by reducing their reporting burden. Also, it does not jeopardize ATF's ability to protect the revenue.

When manufacturers submit ATF Forms 5210.5, ATF compiles their reports to prepare tobacco statistics for government and public use. The elimination of statistical classes will not adversely affect the governments or the general public that use the ATF tobacco statistics.

Importers

Prior to the year 2002, sections 2402.10.30.60 and 2402.10.30.90 of the Harmonized Tariff Schedule of the United States (HTSUS) referred to the eight ATF statistical classes for large cigars. These sections required persons who used the HTSUS to classify cigars, cheroots, and cigarillos, containing tobacco, according to their value. If such products had a value of less than 15 cents per item and weighed more than 1.36 kg per thousand, the products were classified according to the eight ATF statistical classes. Persons classified these products by ATF statistical classes A through G, or by ATF statistical class H.

Beginning January 1, 2002, sections 2402.10.30.60 and 2402.10.30.90 of the HTSUS no longer refer to the ATF statistical classes for such products. As stated in the record of change for the 14th edition of HTSUS (2002), this change reflects the modifications made to the HTSUS made by Presidential Proclamation 7515 of December 18, 2001 (66 FR 66549).

Public Participation

Who May Comment on This Notice?

We request comments on the proposed regulations from all interested persons. Comments received on or before the closing date will be carefully considered. Comments received after that date will be given the same consideration if it is practicable to do so. However, assurance of consideration can only be given to comments received on or before the closing date.

Will ATF Keep My Comments Confidential?

ATF cannot recognize any material in comments as confidential. Comments may be disclosed to the public. If you consider your material to be confidential or inappropriate for disclosure to the public, you should not include it in the comment. We may also disclose the name of any person who submits a comment.

May I Review the Comments?

You may view and copy written comments on this proposed rule during normal business hours in the ATF Public Reading Room, Room 6480, 650 Massachusetts Avenue, NW., Washington, DC 20226, telephone (202) 927-8480.

For the convenience of the public, ATF will post comments received in response to this notice on the ATF web site. All comments posted on our web site will show the name of the commenter, but will have street addresses, telephone numbers and e-mail addresses removed. We may also omit voluminous attachments or material that we do not consider suitable for posting. In all cases, the full comment will be available in the library or through FOIA requests, as noted above. To access online copies of the comments on this rulemaking, visit http://www.atf.treas.gov/, and select “Regulations,” then “Proposed regulations (tobacco),” then click on this notice, and then on the “view comments” link.

Where Do I Send Written Comments?

You may submit written comments to ATF at the address listed in the ADDRESSES section.

How Do I Send Facsimile Comments?

You may submit comments by facsimile transmission to (202) 927-8525. Facsimile comments must:

• Be legible;

• Be 8½″ × 11″ in size;

• Have a written signature;

• Have a legible name of the individual making the comment; and

• Be five pages or less in length.

We will not acknowledge receipt of facsimile transmissions. We treat facsimile transmissions as originals.

How Do I Send Comments by E-mail?

You may submit e-mail comments by following these instructions. E-mailed comments must:

• Contain your name, mailing address, and e-mail address;

• Contain the word “notice” and the notice number in the subject or reference line of the e-mail;

• Contain your company or association affiliation, if pertinent to your comment, and your reason for commenting (manufacturer, importer, consumer, etc.);

• Be legible when printed on 8½” x 11” paper (no special characters or symbols); and

• Be addressed to the following address: nprm@atfhq.atf.treas.gov.

We will not acknowledge receipt of comments submitted by e-mail. We treat e-mailed comments as originals.

May I Request a Public Hearing?

If you wish the opportunity to comment orally at a public hearing on this proposed regulation, you must submit a request in writing to the Director within the 30-day comment period. The Director reserves the right, in light of all circumstances, to determine if a public hearing is necessary.

Regulatory Analyses and Notices

Does This Proposed Rule Comply with the Administrative Procedure Act?

This proposed rule complies with the Administrative Procedure Act by publishing this notice in the Federal Register and giving at least a 30-day period for comment on the proposed rules.

How Does the Regulatory Flexibility Act Apply to This Proposed Rule?

We certify that this proposed rule will not have a significant economic impact on a substantial number of small entities. Accordingly, a regulatory flexibility analysis is not required. The proposed rule does not impose any additional requirements on any small businesses. We have sent a copy of this notice to the Chief Counsel for Advocacy of the Small Business Administration for comment on its impact on small business pursuant to section 7805(f).

Is This a Significant Regulatory Action as Defined by Executive Order 12866?

This proposed rule does not fit any of the criteria for significant regulatory actions as defined by Executive Order 12866. Consequently, a regulatory assessment is not required.

Does the Paperwork Reduction Act Apply to This Proposed Rule?

The Paperwork Reduction Act of 1995, 44 U.S.C. Chapter 35, and its implementing regulations, 5 CFR part 1320, do not apply to this notice of proposed rulemaking because it does not require a collection of information.

Drafting Information

The principal author of this document is Robert Ruhf, Regulations Division, Bureau of Alcohol, Tobacco and Firearms.

List of Subjects

27 CFR Part 40

Administrative practice and procedure, Authority delegations, Cigars and cigarettes, Claims, Electronic fund transfers, Excise taxes, Imports, Labeling, Packaging and containers, Penalties, Reporting and recordkeeping requirements, Seizures and forfeitures, Surety bonds, Tobacco.

27 CFR Part 275

Administrative practice and procedure, Authority delegations, Cigarette papers and tubes, Claims, Electronic fund transfer, Customs duties and inspection, Excise taxes, Imports, Labeling, Packaging and containers, Penalties, Reporting requirements, Seizures and forfeitures, Surety bonds, Tobacco products, U.S. possessions, Warehouses.

Authority and Issuance

Title 27, Code of Federal Regulations is proposed to be amended as follows:

PART 40—MANUFACTURE OF TOBACCO PRODUCTS AND CIGARETTE PAPERS AND TUBES

Paragraph 1. The authority citation for part 40 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

§ 40.203 [Removed and reserved]

Par. 2. Section 40.203 is removed and Reserved.

PART 275—IMPORTATION OF TOBACCO PRODUCTS AND CIGARETTE PAPERS AND TUBES

Par 3. The authority citation for part 275 continues to read as follows:

Authority: 18 U.S.C. 2342; 26 U.S.C. 5701, 5703, 5704, 5705, 5708, 5712, 5713, 5721, 5722, 5723, 5741, 5754, 5761, 5762, 5763, 6301, 6302, 6313, 6404, 7101, 7212, 7342, 7606, 7652, 7805; 31 U.S.C. 9301, 9303, 9304, 9306.

§ 275.37 [Removed and reserved]

Par. 4. Section 275.37 is removed and reserved.

Dated: September 16, 2002.
Bradley A. Buckles,
Director.
Approved: October 25, 2002.
Timothy E. Skud,
Deputy Assistant Secretary (Regulatory, Tariff, and Trade Enforcement).

[FR Doc. 02-27973 Filed 11-4-02; 8:45 am]

BILLING CODE 4810-31-P